ENVIRONMENTAL PROTECTION AGENCY

[ER-FRL-6645-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 4, 2003 (68 FR 16511).

Draft EISs

ERP No. D-AFS-J65390-CO Rating EC1, Arapaho National Recreation Area Forest Health and Fuels Reduction Project, Pre-Suppression Measures for Mountain Pine Beetle Infestation Reduction in Stands of Lodgepole Pine, Implementation, Arapaho National Forest, Sulphur Ranger District, Grand County, CO.

Summary: EPA expressed environmental concern due to project impacts related to disturbances within roadless areas, contiguous terrestrial habitat and watersheds.

ERP No. D-FHW-G40177-LA Rating LO, Kansas Lane Connector Project, Construction between U.S. 80 (Desiard Street) and U.S. 165 and the Forsythe Avenue Extension, U.S. Army COE Section 10 and 404 Permits Issuance, City of Monroe, Quachita Parish, LA.

Summary: EPA has no objections to the selection of the preferred alternative.

ERP No. D-FRA-E40799-FL Rating EC1, Florida High Speed Rail from Tampa to Orlando, Transportation Improvement, NPDES Permit and US Army COE Section 404 Permit, Hillsborough, Orange, Osceola and Polk Counties, FL.

Summary: EPA has environmental concerns with the proposed project regarding noise, vibration, hazardous waste sites and potential environmental impacts to air quality, wetlands, floodplains and other aquatic resources.

ERP No. D-NOA-A91069-00 Rating EC2, Atlantic Tunas, Swordfish, and Sharks Fishery Management Plan, To Prevent Overfishing and Rebuild Overfished Species, Update Essential Fish Habitat, Atlantic, Gulf of Mexico and Caribbean Sea.

Summary: EPA expressed concern that the document had not adequately explained alternatives and impact analyses. EPA recommended that the final document summarize data and that it clearly connect to impacts analysis of the proposed action. EPA also requested information on bycatch and the effects of other fisheries on sharks.

Final EISs

ERP No. F-AFS-K26002-CA, South Tahoe Public Utility District (STPUD) B-Line Phase III Wastewater Export Pipeline Replacement Project, Luther Pass Pump Station to U.S. Forest Service Luther Pass Overflow Campground Access Road, Special Use Permit, U.S. Army COE Section 404 and U.S. Fish and Wildlife Service Permits Issuance and EPA Grant, El Dorado and Alpine Counties, CA.

Summary: No formal comment letter was sent to the preparing agency.

ERP No. F-DOD-A11077-00, Ground-Based Midcourse Defense (GMD) Extended Test Range (ETR) Project, Construction and Operation, CA, AK, AS, HI and WA.

Summary: EPA expressed environmental concern regarding how soil will be sampled for perchlorate and recommended that the ROD specify a perchlorate sampling plan.

ERP No. F-FHW-J40157-MT, US 89 from Fairfield to Dupuyer Corridors Study, Reconstruction, Widening, Realignment and Route Connection between Yellowstone National Park to the South with Glacier National Park to the North, Teton and Pondera Counties, MT.

Summary: EPA expressed environmental concerns due to impacts to wetlands and floodplain encroachment. EPA requested a wetland mitigation plan be developed and that the project be designed to adequately pass flood flows, bedload, and provide opportunities for wildlife passage. EPA also suggested that the Montana Department of Environmental Quality be coordinated with to assure compatibility of proposed highway construction activities with TMDL development for impaired waters.

ERP No. F-NPS-F65031-MN, Grand Portage National Monument General Management Plan, Implementation, Cook County, MN.

Summary: EPA's previous concerns have been resolved; therefore, EPA has no objections to the proposed action. EPA did request that future environmental assessments on trails be made available for review.

Dated: November 4, 2003.
Joseph C. Montgomery,
Director, NEPA Compliance Division, Office of Federal Activities.

[FR Doc. 03-28106 Filed 11-6-03; 8:45 am]

BILLING CODE 6560-50-P